DEPARTMENT OF HOMELAND SECURITY

Coast Guard

33 CFR Part 165

[Docket No. USCG-2017-0227]

RIN 1625-AA00

Safety Zone; Annual Events Requiring Safety Zones in the Captain of the Port Lake Michigan Zone—Rockets for Schools Rocket Launch

AGENCY: Coast Guard, DHS.

ACTION: Notice of enforcement of regulation.

SUMMARY: The Coast Guard will enforce the safety zone on the Sheboygan Harbor, near the Sheboygan South Pier in Sheboygan, WI for the Rockets for Schools Rocket Launch on May 13, 2017. This action is necessary and intended to ensure safety of life on navigable waters immediately prior to, during, and after the rocket launch. During the aforementioned period, the Coast Guard will enforce restrictions upon, and control movement of, vessels in the safety zone. No person or vessel may enter the safety zone while it is being enforced without permission of the Captain of the Port Lake Michigan or a designated representative.

DATES: The regulations in 33 CFR 165.929 will be enforced for safety zone (c)(3), Table 165.929, from 8:45 a.m. until 4:15 p.m. on May 13, 2017.

FOR FURTHER INFORMATION CONTACT: If you have questions on this document, call or email MST1 Kaleena D. Carpino, marine event coordinator, Prevention Department, Coast Guard Sector Lake Michigan, Milwaukee, WI at (414) 747-7148, email D09-SMB-SECLakeMichigan-WWM@uscg.mil.

SUPPLEMENTARY INFORMATION: The Coast Guard will enforce the Rockets for School Rocket Launch safety zone listed as item (c)(3) in Table 165.929 of 33 CFR 165.929. Section 165.929 lists many annual events requiring safety zones in the Captain of the Port Lake Michigan zone. This safety zone will encompass all waters of the Sheboygan Harbor within the arc of a circle with a 1500-yard radius from a center point launch position at 43°44.914′ N., 087°41.869′ W. (NAD 83). As specified in 33 CFR 165.929, all vessels must obtain permission from the Captain of the Port Lake Michigan or a designated representative to enter, move within, or exit the safety zone when it is enforced. Vessels and persons granted permission to enter the safety zone must obey all lawful orders or directions of the Captain of the Port Lake Michigan or a designated representative.

This document is issued under authority of 33 CFR 165.929, Safety Zones; Annual events requiring safety zones in the Captain of the Port Lake Michigan zone, and 5 U.S.C. 552(a). In addition to this publication in the Federal Register, the Coast Guard plans to provide the maritime community with advance notification for the enforcement of this zone via Broadcast Notice to Mariners or Local Notice to Mariners. The Captain of the Port Lake Michigan or a representative may be contacted via Channel 16, VHF-FM.

Dated: April 12, 2017.
A.B. Cocanour,
Captain, U.S. Coast Guard, Captain of the Port Lake Michigan.

[FR Doc. 2017-07982 Filed 4-19-17; 8:45 am]

BILLING CODE 9110-04-P